DEPARTMENT OF LABOR

Office of the Secretary

Agency Information Collection Activities; Submission for OMB Emergency Review: Comment Request; Repurposed Auto Manufacturing Facilities Study

ACTION: Notice.

SUMMARY: The Department of Labor (DOL) has submitted the information collection request (ICR) titled, “Repurposed Auto Manufacturing Facilities Study,” to the Office of Management and Budget (OMB) for review and clearance utilizing emergency review procedures in accordance with the Paperwork Reduction Act of 1995 (Pub. L. 104-13, 44 U.S.C. Chapter 35) and 5 CFR 1320.13. OMB approval has been requested by April 29, 2011.

DATES: Submit comments on or before April 25, 2011.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an e-mail to DOL_PRA_PUBLIC@dol.gov.

Submit comments about this request to the Office of Information and Regulatory Affairs, Attn: OMB Desk Officer for the Department of Labor, Office of the Secretary, Office of Management and Budget, Room 10235, Washington, DC 20503, Telephone: 202-395-6929/Fax: 202-395-6881 (these are not toll-free numbers), e-mail: OIRA_submission@omb.eop.gov.

FOR FURTHER INFORMATION CONTACT: Michel Smyth by telephone at 202-693-4129 (this is not a toll-free number) or by e-mail at DOL_PRA_PUBLIC@dol.gov.

SUPPLEMENTARY INFORMATION: On June 23, 2009, President Obama signed Executive Order 13509 creating the White House Council on Automotive Communities and Workers to help coordinate the Federal response to workers and communities that had been impacted by the restructuring in the American auto industry. The White House Council includes the heads of all domestic Cabinet agencies, and is co-chaired by Labor Secretary Hilda Solis. A critical part of the Council's mandate is support for local efforts to recover and repurpose former auto manufacturing facilities to other uses.

On behalf of the Council, the DOL is proposing to gather information about land and plant re-purposing from professionals in the communities that have already faced the problems associated with auto plants that were closed over the last 30 years. The purpose of the study is to provide communities with feasible strategies for repurposing facilities, restoring the job base and maintaining industrial property values. The study will also examine whether Federal, State, or other aid was used to encourage the property reuse.

The DOL is requesting emergency processing, because on March 3, 2011, the judge presiding over the General Motors (GM) bankruptcy approved a proposal for a special $720 million trust for some 60 closed GM auto facilities that took effect on March 18. Coming on top of efforts by the Department of Commerce and the Environmental Protection Agency to focus attention on strategic efforts by local community leaders to recover and repurpose closed auto facilities wherever they might be, this unprecedented commitment of resources has made the collection, analysis and dissemination of this information an urgent need.

Interested parties are encouraged to send comments to the OMB, Office of Information and Regulatory Affairs at the address shown in the ADDRESSES section. In order to ensure appropriate consideration, comments should reference OMB ICR Reference Number 201104-1290-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New collection of information (Request for new Control Number).

Agency: Office of the Secretary.

Title of Collection: Repurposed Auto Manufacturing Facilities Study.

Requested Duration of Authorization: Three months from approval.

OMB ICR Reference Number: 201104-1290-001.

Frequency of Collection: Once.

Affected Public: State, Local, and Tribal governments.

Estimated Time per Response: 1 hour.

Total Estimated Number of Respondents: 130.

Total Estimated Annual Burden Hours: 130.

Total Annualized Capital and Startup Costs: $0.

Total Annualized Operation and Maintenance Costs: $0.

Dated: April 13, 2011.
Michel Smyth,
Departmental Clearance Office.

[FR Doc. 2011-9268 Filed 4-15-11; 8:45 am]

BILLING CODE 4510-23-P